DEPARTMENT OF THE INTERIOR

Bureau of Indian Affairs

25 CFR Chapter I

Meeting of the No Child Left Behind Negotiated Rulemaking Committee

AGENCY: Bureau of Indian Affairs, Interior.

ACTION: Announcement of negotiated rulemaking committee meeting.

SUMMARY: The Secretary of the Interior has established an advisory Committee to develop recommendations for proposed rules for Indian education under six sections of the No Child Left Behind Act of 2001. As required by the Federal Advisory Committee Act, we are announcing the date and location of the next meeting of the No Child Left Behind Negotiated Rulemaking committee.

DATES: The Committee's next meeting will be held September 15-19, 2003. The meeting will begin at 8:30 am (CDT) on Monday, September 15 and end at noon (CDT) on Friday, September 19.

ADDRESSES: The meeting will be held at the Gaylord Opryland Resort and Convention Center, 2800 Opryland Drive, Nashville, TN 37214, telephone (615) 883-2211.

FOR FURTHER INFORMATION CONTACT: Barbara James or Shawna Smith, No Child Left Behind Negotiated Rulemaking Project Management Office, P.O. Box 1430, Albuquerque, NM 87103-1430; telephone (505) 248-7241/6569; fax (505) 248-7242; email bjames@bia.edu or ssmith@bia.edu. We will post additional information as it becomes available on the Office of Indian Education Programs Web site under “Negotiated Rulemaking” at http://www.oiep.bia.edu.

SUPPLEMENTARY INFORMATION: For more information on negotiated rulemaking under the No Child Left Behind Act, see the Federal Register notices published on December 10, 2002 (67 FR 75828) and May 5, 2003 (68 FR 23631) or the Web site at http://www.oiep.bia.edu under “Negotiated Rulemaking”.

The items for negotiation include: Student Rights/Geographic Boundaries; Tribally Controlled Schools Act/Grants; Adequate Yearly Progress; and Funding and Distribution of Funds. The Committee will meet in work groups and in full session each day for work group reports, public comments, and logistics. All meetings are open to the public. There is no requirement for advance registration for members of the public who wish to attend and observe the Committee meetings or the work group meetings or to make public comments. Members of the public may also make written comments to the Committee by sending them to the NCLB Negotiated Rulemaking Committee, Project Management Office, P.O. Box 1430, Albuquerque, New Mexico 87103. We will provide copies of the comments to the Committee.

The agenda for the September 15-19, 2003, meeting is as follows:

Agenda for No Child Left Behind Negotiated Rulemaking Committee Meeting September 15-19, 2003, Nashville, Tennessee

Meetings end at 5:30 pm each day (except September 19)

September 15

Opening Remarks—8:30 am

Public Comments ( 30 minutes)

Introductions, Logistics, and Housekeeping

Approval of summary from Seattle meeting

Review agenda

Plenary Committee considers consensus on proposed rule language

Work Group meetings

September 16

Public comments—8:30—9 am

Work Group meetings

September 17

Public comments—8:30—9 am

Work Group meetings

Plenary Committee considers consensus on proposed rule language

September 18

Public comments—8:30—9 am

Work Group meetings

Plenary Committee considers consensus on proposed rule language

September 19

Public Comments—8:30—9 am

Plenary Committee meeting

Considers consensus on proposed rule language

Set agenda for next meeting

Evaluations

Closing remarks

Closing—noon

Dated: August 26, 2003.
Aurene M. Martin,
Acting Assistant Secretary—Indian Affairs.

[FR Doc. 03-22228 Filed 8-29-03; 8:45 am]

BILLING CODE 4310-6W-P